DEPARTMENT OF COMMERCE

International Trade Administration

[A-570-836]

Glycine From the People's Republic of China: Preliminary Results of Changed Circumstances Review

AGENCY: Enforcement and Compliance, International Trade Administration, Department of Commerce.

SUMMARY: On November 17, 2016, the Department of Commerce (the Department) initiated a changed circumstances review (CCR) of the antidumping duty order on glycine from the People's Republic of China (PRC). The Department preliminarily determines that Salvi Chemical Industries Ltd. (Salvi) is eligible to participate in a certification process, because Salvi has demonstrated that glycine produced by Salvi is no longer processed from Chinese-origin glycine. Interested parties are invited to comment on these preliminary results.

DATES: Effective August 11, 2017.

FOR FURTHER INFORMATION CONTACT: Madeline Heeren, AD/CVD Operations, Office VI, Enforcement and Compliance, International Trade Administration, U.S. Department of Commerce, 1401 Constitution Avenue NW., Washington, DC 20230; telephone: (202) 482-9179.

SUPPLEMENTARY INFORMATION:

Background

On December 10, 2012, the Department published its final anti-circumvention inquiry determination, where the record indicated that Salvi was processing Chinese glycine and labeling it to be of Indian origin.¹ The Department determined that glycine processed in India of Chinese origin does not change country of origin, and, therefore, Salvi had circumvented the Order.² As part of our determination, we stated that Salvi could not take part in a certification process, whereby Salvi's importers could certify that they had not imported Chinese-origin glycine and would not be subject to the antidumping duty rate for Chinese glycine.³ Additionally, we stated that Salvi could also request a CCR if it could show that its exports of glycine to the United States were not processed from Chinese-origin glycine.⁴ On July 18, 2016, the Department received a request from Salvi to initiate a CCR in order for the Department to determine that the glycine produced by Salvi is no longer processed from Chinese-origin glycine.⁵ Additionally, Salvi requested that the Department determine that importers of glycine from Salvi are eligible to participate in a certification process.⁶ On November 16, 2017, the Department initiated this CCR, pursuant to section 751(b)(1) of the Tariff Act of 1930, as amended, (the Act) and 19 CFR 351.216(d), upon finding that there is sufficient information to warrant a review of the Order.⁷

¹ See Memorandum, “Final Scope Ruling Concerning the Antidumping Duty Order on Glycine from the People's Republic of China,” dated December 3, 2012 (Final Scope Ruling) at 14.

² See Glycine from the People's Republic of China: Final Partial Affirmative Determination of Circumvention of the Antidumping Duty Order, 77 FR 73426 (December 10, 2012) (Circumvention Notice) and accompanying Issues and Decision Memorandum for the Final Determination of the Anti-Circumvention Inquiry of the Antidumping Duty Order on Glycine from the People's Republic of China; see also Antidumping Duty Order: Glycine from the People's Republic of China, 60 FR 16116 (March 29, 1995) (Order); see also Final Scope Ruling.

³ See Circumvention Notice and Final Scope Ruling.

⁴ See Circumvention Notice.

⁵ See Letter, “Glycine from the People's Republic of China: Request for Changed Circumstances Review,” dated July 18, 2016.

⁶ Id.

⁷ See Glycine from the People's Republic of China: Initiation of Antidumping Duty Changed Circumstances Review, 81 FR 81064 (November 17, 2016).

Scope of the Order

The product covered by this antidumping duty order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS).⁸ Although the HTSUS subheading is provided for convenience and customs purposes, the written description of the merchandise under the order is dispositive.⁹

⁸ In separate scope rulings, the Department determined that: (a) D(-) Phenylglycine Ethyl Dane Salt is outside the scope of the order and (b) PRC-glycine exported from India remains the same class or kind of merchandise as the PRC-origin glycine imported into India. See Notice of Scope Rulings and Anticircumvention Inquiries, 62 FR 62288 (November 21, 1997) and Circumvention Notice, respectively.

⁹ See Order.

Methodology

We are conducting this CCR in accordance with section 751(b)(1) of the Act. For a full description of the methodology underlying our conclusions, see the Preliminary Decision Memorandum.¹⁰ A list of topics in the Preliminary Decision Memorandum is included as an appendix to this notice.

¹⁰ See Memorandum, “Decision Memorandum for the Preliminary Results of the Antidumping Duty Changed Circumstances Review of Glycine from the People's Republic of China,” dated concurrently with this determination and hereby adopted by this notice (Preliminary Decision Memorandum).

The Preliminary Decision Memorandum is a public document and is made available to the public via Enforcement and Compliance's Antidumping and Countervailing Duty Centralized Electronic Service System (ACCESS). ACCESS is available to registered users at https://access.trade.gov, and is available to all parties in the Department's Central Records Unit, room B8024 of the main Department of Commerce building. In addition, a complete version of the Preliminary Decision Memorandum can be accessed directly at http://enforcement.trade.gov/frn/. The signed Preliminary Decision Memorandum and the electronic version of the Preliminary Decision Memorandum are identical in content.

Preliminary Results of the Changed Circumstances Review

We preliminarily determine that, since the Circumvention Notice and Final Scope Ruling were issued, Salvi has demonstrated that glycine produced by Salvi is no longer processed from Chinese-origin glycine.

If the Department upholds these preliminary results in the final results, we will notify U.S. Customs and Border Protection and allow Salvi's importers of subject merchandise to certify that the glycine being produced and exported is not processed Chinese-origin glycine.

Public Comment

Interested parties may submit case briefs no later than 30 days after the date of publication of these preliminary results of review in the Federal Register.¹¹ Rebuttal briefs, limited to issues raised in the case briefs, may be filed by no later than five days after the deadline for filing case briefs.¹² Parties that submit case or rebuttal briefs are encouraged to submit with each argument: (1) A statement of the issue; (2) a brief summary of the argument; and (3) a table of authorities.¹³ All briefs are to be filed electronically using ACCESS.¹⁴ An electronically filed document must be received successfully in its entirety by ACCESS by 5:00 p.m. Eastern Time on the day on which it is due.¹⁵

¹¹ See 19 CFR 351.309(c)(1)(ii). The Department has exercised its discretion under 19 CFR 351.309(c)(1)(ii) to alter the time limit for submission of case briefs.

¹² See 19 CFR 351.309(d)(1).

¹³ See 19 CFR 351.309(c)(2) and (d)(2).

¹⁴ See 19 CFR 351.303(b) and (f).

¹⁵ See 19 CFR 351.303(b).

Any interested party may submit a request for a hearing to the Assistant Secretary of Enforcement and Compliance using ACCESS within 30 days of publication of this notice in the Federal Register.¹⁶ Hearing requests should contain the following information: (1) The party's name, address, and telephone number; (2) the number of participants; and (3) a list of the issues to be discussed. Oral presentations will be limited to issues raised in the briefs.¹⁷ If a request for a hearing is made, parties will be notified of the time and date of the hearing, which will be held at the U.S. Department of Commerce, 1401 Constitution Avenue NW., Washington, DC 20230.¹⁸

¹⁶ See 19 CFR 351.310(c).

¹⁷ Id.

¹⁸ See 19 CFR 351.310(d).

Final Results of the Review

In accordance with 19 CFR 351.302(b), the Department extended the deadline of the final results of this CCR to November 3, 2017.¹⁹

¹⁹ See Memorandum, “Glycine from the People's Republic of China: Extension of Deadline for Final Results of Changed Circumstances Review,” dated August 4, 2017.

Notification to Parties

The Department is issuing and publishing these results in accordance with sections 751(b)(1) and 777(i) of the Act and 19 CFR 351.216 and 351.221(c)(3)(i).

Dated: August 7, 2017.
Carole Showers,
Executive Director, Office of Policy performing the duties of Deputy Assistant Secretary for Enforcement and Compliance.

Appendix

List of Topics Discussed in the Preliminary Decision Memorandum

I. Summary

II. Background

III. Scope of the Order

IV. Preliminary Results of the Changed Circumstances Review

[FR Doc. 2017-16994 Filed 8-10-17; 8:45 am]

BILLING CODE 3510-DS-P